DEPARTMENT OF AGRICULTURE

Animal and Plant Health Inspection Service

9 CFR Part 94

[Docket No. 05-004-1]

RIN 0579-AB93

Importation of Whole Cuts of Boneless Beef from Japan

Correction

In proposed rule document 05-16422 beginning on page 48494 in the issue of Thursday, August 18, 2005, make the following correction:

On page 48497, in the second column, in the last line, Footnote 9 is corrected to read as set forth below:

“⁹See FSIS Notice 10-04.

FSIS. Verification instructions for the interim final rule regarding specified risk materials (SRMs) in cattle). Notice. January 23, 2005. (Available at http://www.fsis.usda.gov/OPPDE/rdad/FSISNotices/9-04.htm).

FSIS. FSIS Technical Services Center: Common BSE Questions and Answers. March 19, 2005. (Available at http://www.fsis.usda.gov/oa/FAQ/bse_techcenter.htm).”

[FR Doc. C5-16422 Filed 8-31-05; 8:45 am]

BILLING CODE 1505-01-D